DEPARTMENT OF COMMERCE

International Trade Administration

[A-570-899]

Notice of Amended Preliminary Determination of Sales at Less Than Fair Value: Certain Artist Canvas from the People's Republic of China

AGENCY: Import Administration, International Trade Administration, Department of Commerce.

EFFECTIVE DATE: December 15, 2005.

FOR FURTHER INFORMATION CONTACT: Jon Freed or Michael Holton, AD/CVD Operations, Office 8, Import Administration, International Trade Administration, U.S. Department of Commerce, 14th Street and Constitution Avenue, NW., Washington, DC, 20230; telephone: (202) 482-3818 or 482-1324, respectively.

SUMMARY: On November 7, 2005, the Department of Commerce (“the Department”) published its affirmative preliminary determination in this proceeding. See Notice of Preliminary Determination of Sales at Less Than Fair Value: Certain Artist Canvas from the People's Republic of China, 70 FR 67412 (November 7, 2005) (“Preliminary Determination”). While the Department did not receive any allegations of ministerial errors in the Preliminary Determination, the Department inadvertently stated an inaccurate manufacturer/producer name in the provided combination rate, and inadvertently failed to include one combination rate.

In the Preliminary Determination, the Department stated it would calculate combination rates for certain respondents that are eligible for a separate rate in this investigation. Thus, we granted Jiangsu Animal By-products Import & Export Group Corp. (“Jiangsu By-products”) (i.e., a separate rate applicant) a separate rate and calculated a combination rate for Jiangsu By-products. However, in our Weighted-Average Dumping Margins section, the Department inadvertently stated an inaccurate manufacturer/producer name in the provided combination rate for Jiangsu By-products, and inadvertently failed to include one combination rate for Jiangsu By-products. Therefore, we are correcting the Weighted-Average Dumping Margins section to include the additional combination rate and to correct the manufacturer/producer name.

SUPPLEMENTARY INFORMATION:

Scope

The products covered by this investigation are artist canvases regardless of dimension and/or size, whether assembled or unassembled, that have been primed/coated, whether or not made from cotton, whether or not archival, whether bleached or unbleached, and whether or not containing an ink receptive top coat. Priming/coating includes the application of a solution, designed to promote the adherence of artist materials, such as paint or ink, to the fabric. Artist canvases (i.e., pre-stretched canvases, canvas panels, canvas pads, canvas rolls (including bulk rolls that have been primed), printable canvases, floor cloths, and placemats) are tightly woven prepared painting and/or printing surfaces. Artist canvas and stretcher strips (whether or not made of wood and whether or not assembled) included within a kit or set are covered by this proceeding.

Artist canvases subject to this investigation are currently classifiable under subheadings 5901.90.20.00 and 5901.90.40.00 of the Harmonized Tariff Schedule of the United States (“HTSUS”). Specifically excluded from the scope of this investigation are tracing cloths, “paint-by-number” or “paint-it-yourself” artist canvases with a copyrighted preprinted outline, pattern, or design, whether or not included in a painting set or kit.¹ Also excluded are stretcher strips, whether or not made from wood, so long as they are not incorporated into artist canvases or sold as part of an artist canvas kit or set. While HTSUS subheadings are provided for convenience and customs purposes, our written description of the scope of this proceeding is dispositive.

¹ Artist canvases with a non-copyrighted preprinted outline, pattern, or design are included in the scope, whether or not included in a painting set or kit.

Amended Preliminary Determination

As a result of our correction to the Preliminary Determination, we have determined that the following weighted-average percentage dumping margins apply to imports of certain artist canvas from the PRC exported by Jiangsu By-products.

Artist Canvas from the PRC - Weighted-average Dumping Margins
Exporter | Producer | Weighted-Average Deposit Rate
Jiangsu Animal By-products Import & Export Group Corp. | Wuxi Yinying Stationery and Sports Products Co. Ltd. Corp. | 70.28
Jiangsu Animal By-products Import & Export Group Corp. | Su Yang Yinying Stationery and Sports Products Co., Ltd. Corp. | 70.28
China-Wide Rate |  | 264.09

The collection of bonds or cash deposits and suspension of liquidation will be revised accordingly in accordance with section 733(d) of the Tariff Act of 1930, as amended (“the Act”). For all other imports of certain artist canvas from the PRC, the cash deposit rates remain as listed in the Preliminary Determination.

International Trade Commission Notification

In accordance with section 733(f) of the Act, we have notified the International Trade Commission (“ITC”) of our amended preliminary determination. If our final determination is affirmative, the ITC will determine before the later of 120 days after the date of the original preliminary determination or 45 days after our final determination whether the domestic industry in the United States is materially injured, or threatened with material injury, by reason of imports, or sales (or the likelihood of sales) for importation, of the subject merchandise.

This determination is issued and published in accordance with sections 733(f) and 777(i)(1) of the Act and 19 CFR 351.224(e).

Dated: December 9, 2005.
Joseph A. Spetrini,
Acting Assistant Secretary for Import Administration.

[FR Doc. E5-7400 Filed 12-14-05; 8:45 am]

BILLING CODE 3510-DS-S